SMALL BUSINESS ADMINISTRATION

[Disaster Declaration #10205 and #10206]

Louisiana Disaster Number LA-00004

AGENCY: Small Business Administration.

ACTION: Amendment 11.

SUMMARY: This is an amendment of the Presidential declaration of a major disaster for the State of Louisiana (FEMA-1607-DR), dated 09/24/2005.

Incident: Hurricane Rita.

Incident Period: 09/23/2005 through 11/01/2005.

Effective Date: 03/10/2006.

Physical Loan Application Deadline Date: 04/10/2006.

EIDL Loan Application Deadline Date: 06/26/2006.

ADDRESSES: Submit completed loan applications to: Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Louisiana, dated 09/24/2005, is hereby amended to extend the deadline for filing applications for physical damages as a result of this disaster to 04/10/2006.

All other information in the original declaration remains unchanged.

(Catalog of Federal Domestic Assistance Numbers 59002 and 59008)

Herbert L. Mitchell,
Associate Administrator for Disaster Assistance.

[FR Doc. E6-3996 Filed 3-17-06; 8:45 am]

BILLING CODE 8025-01-P